DEPARTMENT OF THE INTERIOR

National Park Service

[NPS-WASO-NAGPRA-NPS0039149; PPWOCRADN0-PCU00RP14.R50000]

Notice of Inventory Completion: History Colorado (Formerly Colorado Historical Society), Denver, CO

AGENCY: National Park Service, Interior.

ACTION: Notice.

SUMMARY: In accordance with the Native American Graves Protection and Repatriation Act (NAGPRA), History Colorado (formerly Colorado Historical Society) has completed an inventory of human remains and has determined that there is a cultural affiliation between the human remains and Indian Tribes or Native Hawaiian organizations in this notice.

DATES: Repatriation of the human remains in this notice may occur on or after January 6, 2025.

ADDRESSES: Chance Ward, NAGPRA Collections Specialist, History Colorado, 1200 N Broadway, Denver, CO 80203, telephone (303) 866-5751, email chance.ward@state.co.us.

SUPPLEMENTARY INFORMATION: This notice is published as part of the National Park Service's administrative responsibilities under NAGPRA. The determinations in this notice are the sole responsibility of History Colorado, and additional information on the determinations in this notice, including the results of consultation, can be found in its inventory or related records. The National Park Service is not responsible for the determinations in this notice.

Abstract of Information Available

Human remains representing, at least, five individuals have been identified. No associated funerary objects are present.

History Colorado has identified locks/braids of human hair (E.1342.1) in a collection that was donated to the Colorado Historical Society in 1944, and representing four individuals. The hair locks/braids have been taken from the Southern Ute Indian Reservation, La Plata County, Colorado by Joseph O. Smith, who was an employee of the Southern Ute Indian Agency in about 1895 and later became an Indian agent from 1900-1905.

History Colorado also identified a shirt (E.2005.1) in its collections, belonging to Severo, with human hair attached to the shirt. The shirt was originally removed from La Plata County, Colorado before being donated to History Colorado in 1961. Through consultation with authorized Tribal representatives, the hair has been identified as human remains and representing, at least one individual.

No presence of hazardous materials are known.

Cultural Affiliation

Based on the information available and the results of consultation, cultural affiliation is clearly identified by the information available about the human remains in this notice.

Determinations

History Colorado has determined that:

• The human remains described in this notice represent the physical remains of five individuals of Native American ancestry.

• There is a connection between the human remains and associated funerary objects described in this notice and the Southern Ute Indian Tribe of the Southern Ute Reservation, Colorado.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 6, 2025. If competing requests for repatriation are received, the History Colorado must determine the most appropriate requestor prior to repatriation. Requests for joint repatriation of the human remains are considered a single request and not competing requests. History Colorado is responsible for sending a copy of this notice to the Indian Tribes and Native Hawaiian organizations identified in this notice.

Authority: Native American Graves Protection and Repatriation Act, 25 U.S.C. 3003, and the implementing regulations, 43 CFR 10.10.

Dated: November 22, 2024.
Melanie O'Brien,
Manager, National NAGPRA Program.

[FR Doc. 2024-28486 Filed 12-4-24; 8:45 am]

BILLING CODE 4312-52-P